DEPARTMENT OF HOUSING AND URBAN DEVELOPMENT

[Docket No. FR-7092-N-22]

Privacy Act of 1974; System of Records

AGENCY: Office of Housing, HUD.

ACTION: Notice of a rescindment of a system of records.

SUMMARY: Pursuant to the provisions of the Privacy Act of 1974, as amended, the Department of the Housing and Urban Development (HUD), the Office of Housing, the Office of Lender Activities and Program Compliance (OLAPC), is issuing a public notice of its intent to rescind the Lender Electronic Assessment Portal (LEAP) because information is not retrieve by personally identified information and therefor he system does not qualify as a Privacy Act System of Records.

DATES: Comments will be accepted on or before [March 18, 2024. This proposed action will be effective immediately upon publication.

ADDRESSES: You may submit comments, identified by one of the following methods:

Federal e-Rulemaking Portal: http://www.regulations.gov. Follow the instructions provided on that site to submit comments electronically.

Fax: 202-619-8365.

Email: privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov including any personal information provided.

Docket: For access to the docket to read background documents or comments received go to http://www.regulations.gov.

FOR FURTHER INFORMATION CONTACT: LaDonne White, Chief Privacy Officer, 451 Seventh Street SW, Room 10139; Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Lender Electronic Assessment Portal (LEAP) is an internet-facing mechanism for organizations who wish to become approved Federal Housing Administration lenders. For prospective lenders, custom pages are presented as part of hud.gov o allow the lender to register interim credentials and respond to information requests. The only function accessible without authentication is registration and once registered the only function available is applying to be an approved lender. Office of Lender Activities and Program Compliance (OLAPC) staff access LEAP using internet Explorer. None of the functions are available to OLAPC personnel without authentication (against the HUD directory) and privileges (as responsibilities and positions). These are enabled through configured definitions within the Siebel repository and administered data within the Siebel database. For example, a configured workflow might indicate that when an application is set to a specific status, an email should be sent to the lender. All components (except for very specific web pages) are maintained behind the HUD firewall and controls for securing those components are documented in the GSS. Records in the LEAP system have not run past its retention time. Per the Records Inventory Worksheet FY24, the LEAP Records are held for an indefinite period. Records in this system are housed in the LEAP database.

SYSTEM NAME AND NUMBER:

Lender Electronic Assessment Portal (LEAP), P278.

HISTORY:

The previously published notice in the Federal Register [Docket No. FR-5763-N-05], on May 27, 2014 at 79 FR 22826.

Ladonne White,
Chief Privacy Officer, Office of Administration.

[FR Doc. 2024-03321 Filed 2-15-24; 8:45 am]

BILLING CODE 4210-67-P